DEPARTMENT OF VETERANS AFFAIRS

[OMB Control No. 2900-NEW]

Agency Information Collection (Principles of Excellence Complaint System Intake); Comment Request

AGENCY: Veterans Benefits Administration, Department of Veterans Affairs.

ACTION: Notice.

SUMMARY: The Veterans Benefits Administration (VBA) is announcing an opportunity for public comment on the proposed collection of certain information by the agency. Under the Paperwork Reduction Act (PRA) of 1995, Federal agencies are required to publish notice in the Federal Register concerning each proposed collection of information, including each proposed extension of a currently approved collection, and allow 60 days for public comment in response to the notice. VA published an emergency notice the Principles of Excellence Complaint System Intake on April 30, 2013, that has been withdrawn. Due to a change in the direction of the collection VA, is asking for public comments on the revised collection. The PRA submission describes the nature of the information collection and its expected cost and burden; it includes the actual data collection instrument. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and the related form for this information collection, contact the Further Information Contact listed in this notice.

DATES: Written comments and recommendation on the proposed collection of information should be received on or before October 15, 2013.

ADDRESSES: Submit written comments on the collection of information through Federal Docket Management System (FDMS) at www.Regulations.gov; or to Nancy J. Kessinger, Veterans Benefits Administration (20M33), Department of Veterans Affairs, 810 Vermont Avenue NW., Washington, DC 20420 or email nancy.kessinger@va.gov. Please refer to “OMB Control No. 2900—NEW (Principles of Excellence Complaint System Intake)” in any correspondence. During the comment period, comments may be viewed online through FDMS.

FOR FURTHER INFORMATION CONTACT: Nancy J. Kessinger at (202) 632-8924 or fax (202) 632-8925.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

SUPPLEMENTARY INFORMATION:

Title: Principles of Excellence Complaint System Intake.

OMB Control Number: 2900—NEW (Principles of Excellence Complaint System Intake).

Type of Review: New collection.

Abstract: The purpose of the complaint system is to provide a standardized method to submit a complaint against an educational institution alleging fraudulent and unduly aggressive recruiting techniques, misrepresentation, payment of incentive compensation, failure to meet state authorization requirements, or failure to adhere to the Principles of Excellence as outlined in the Executive Order 13607, Establishing Principles of Excellence for Educational Institutions Serving Service Members, Veterans, Spouses, and Other Family Members.

The VA's Principles of Excellence Complaint System (PoECS) will leverage DoD's complaint system to intake and manage complaints utilizing their systems architecture with each agency only having access to their data. The complainants will access the complaint system through the GI Bill Web site and eBenefits portal. Veterans, family members, or other members of the public will be able to open links at either VA Web site location and enter the requested information. Complainants will be offered the opportunity to review the information in their complaint prior to clicking on the submit button. Once a complaint is submitted, the complainant will receive an email verifying that the complaint was received. At this point, the complaint will be stored in the complaint system and be available to select VA employees for review. VA will review the complaint and on behalf of the complainant will share the complaint with the institution which is subject of the complaint. VA will request the institution to formally respond to the complaint within 90 days. If an institution fails to respond within 90 days, VA will contact the institution and request a status update. Once VA receives a response from the institution, VA will forward the response to the complainant. At this point, VA will close the case. Valid complaints received will be transmitted to the central repository at FTC Consumer Sentinel. The information in the central repository is the same information provided by the complainant. Authorized law enforcement officials who have been granted access to the FTC Consumer Sentinel database will have access to view all complaints. The information gathered through the system can only be obtained from the individual respondent. Valid complaints will be accepted from third parties.

We are conducting a 45-day public comment review period pursuant to 5 CFR 1320.13. An agency may not conduct or sponsor, and a person is not required to respond to a collection of information unless it displays a currently valid OMB control number.

Affected Public: Individuals or households.

Estimated Annual Burden: 300 hours.

Estimated Average Burden per Respondent: 15 minutes.

Frequency of Response: On occasion.

Estimated Number of Respondents: 1,200.

Dated: August 23, 2013.
By direction of the Secretary.
Crystal Rennie,
VA Clearance Officer, U.S. Department of Veterans Affairs.

[FR Doc. 2013-20957 Filed 8-27-13; 8:45 am]

BILLING CODE 8320-01-P